DEPARTMENT OF DEFENSE

Department of the Navy

Notice of Cancellation of Partially Closed Meeting of the Secretary of the Navy Advisory Panel

AGENCY: Department of the Navy, DoD.

ACTION: Notice.

SUMMARY: The Secretary of the Navy Advisory Panel hereby cancels its notice to receive ethics training and discuss top areas of concern that the Secretary of the Navy should address, as published in the Federal Register, March 18, 2009 (74 FR number 50), page 11358.

FOR FURTHER INFORMATION CONTACT: Colonel Caroline Simkins-Mullins, SECNAV Advisory Panel, Office of Program and Process Assessment, 1000 Navy Pentagon, Washington, DC 20350, telephone: 703-697-9154.

Dated: March 27, 2009.
A.M. Vallandingham,
Lieutenant Commander, Judge Advocate General's Corps, U.S. Navy, Federal Register Liaison Officer.

[FR Doc. E9-7368 Filed 4-1-09; 8:45 am]

BILLING CODE 3810-FF-P